DEPARTMENT OF COMMERCE

International Trade Administration

[C-570-957]

Certain Seamless Carbon and Alloy Steel Standard, Line, and Pressure Pipe from the People's Republic of China: Postponement of Preliminary Determination in the Countervailing Duty Investigation

AGENCY: Import Administration, International Trade Administration, Department of Commerce.

EFFECTIVE DATE: December 3, 2009.

FOR FURTHER INFORMATION CONTACT: Joseph Shuler or Matthew Jordan, AD/CVD Operations, Import Administration, International Trade Administration, U.S. Department of Commerce, 14th Street and Constitution Avenue, NW, Washington, DC 20230; telephone: (202) 482-1293 and (202) 482-1540, respectively.

Background

On October 6, 2009, the Department of Commerce (“the Department”) initiated an investigation of certain seamless carbon and alloy steel standard, line, and pressure pipe from the People's Republic of China (“PRC”). See Certain Seamless Carbon and Alloy Steel Standard, Line, and Pressure Pipe from the People's Republic of China: Initiation of Countervailing Duty Investigation, 74 FR 52945 (October 15, 2009). Currently, the preliminary determination is due no later than December 10, 2009.

Postponement of Due Date for Preliminary Determination

Under section 703(c)(1)(B) of the Tariff Act of 1930, as amended (the “Act”), the Department may extend the period for reaching a preliminary determination in a countervailing duty investigation until no later than the 130th day after the date on which the administering authority initiates an investigation, if the Department determines that the parties are cooperating and the case is extraordinarily complicated. The Department finds that the instant case is extraordinarily complicated by reason of the number and complexity of the alleged countervailable subsidy practices, and the need to determine the extent to which particular countervailable subsidies are used by individual manufacturers, producers, and exporters. As such, the Department is extending the due date for the preliminary determination to no later than 130 days after the day on which the investigation was initiated (i.e., February 13, 2010). However, February 13, 2010, falls on a Saturday, and the following Monday, February 15, 2010, is a federal holiday. It is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the preliminary determination is no later than February 16, 2010.

As the Department is aware, Section 703(c)(2) of the Act and 19 CFR 351.205(f) state that if the Department postpones the preliminary determination, it will notify all parties to the proceeding no later than 20 days prior to the scheduled date of the preliminary determination. The Department acknowledges that it inadvertently missed this deadline. We issued questionnaires to the respondents in this case on November 9, 2009. The due date for these questionnaires is December 16, 2009, which is after the unextended preliminary determination date. While the Department intended to extend the preliminary determination due date when we issued the questionnaire, due to an administrative oversight we did not complete the extension notice at that time.

This notice is issued and published pursuant to section 703(c)(2) of the Act and 19 CFR 351.205(f).

Dated: November 25, 2009.
Ronald K. Lorentzen,
Deputy Assistant Secretary for Import Administration.

[FR Doc. E9-28881 Filed 12-2-09; 8:45 am]

BILLING CODE 3510-DS-S